DEPARTMENT OF THE INTERIOR

National Park Service

[2253-665]

Notice of Inventory Completion: Peabody Museum of Archaeology and Ethnology, Harvard University, Cambridge, MA

AGENCY: National Park Service, Interior.

ACTION: Notice.

SUMMARY: The Peabody Museum of Archaeology and Ethnology, Harvard University has completed an inventory of human remains, in consultation with the appropriate Indian tribes, and has determined that there is a cultural affiliation between the human remains and present-day Indian tribes. Representatives of any Indian tribe that believes itself to be culturally affiliated with the human remains may contact the Peabody Museum of Archaeology and Ethnology, Harvard University. Repatriation of the human remains to the Indian tribes stated below may occur if no additional claimants come forward.

DATES: Representatives of any Indian tribe that believes it has a cultural affiliation with the human remains should contact the Peabody Museum of Archaeology and Ethnology, Harvard University at the address below by November 10, 2011.

ADDRESSES: Patricia Capone, Repatriation Coordinator, Peabody Museum of Archaeology and Ethnology, Harvard University, 11 Divinity Ave., Cambridge, MA 02138, telephone (617) 496-3702.

SUPPLEMENTARY INFORMATION: Notice is here given in accordance with the Native American Graves Protection and Repatriation Act (NAGPRA), 25 U.S.C. 3003, of the completion of an inventory of human remains in the possession of the Peabody Museum of Archaeology and Ethnology, Harvard University (Peabody Museum), Cambridge, MA. The human remains were removed from Cayuga County, NY.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Peabody Museum professional staff in consultation with representatives of the Cayuga Nation of New York; Oneida Nation of New York; Oneida Tribe of Indians of Wisconsin; Onondaga Nation of New York; Saint Regis Mohawk Tribe, New York; Seneca Nation of New York; Seneca-Cayuga Tribe of Oklahoma; Tonawanda Band of Seneca Indians of New York; and the Tuscarora Nation of New York (hereinafter “The Tribes”).

History and Description of the Remains

At an unknown date, human remains representing a minimum of two individuals were removed from Cayuga County, NY, by an unknown collector. In 1950 the remains were donated to the Peabody Museum by the Peabody Museum in Salem, MA (now the Peabody Essex Museum). No known individuals were identified. No associated funerary objects are present.

Museum documentation describes these individuals as “Iroquois”. The designation “Iroquois” post-dates contact between Native American groups and Euro-American people in this area and suggests that the human remains date to the Historic period (post-A.D. 1540). The western portion of central New York, including Cayuga County, is the traditional heartland of the Cayuga Nation. Consultation with representatives of The Tribes indicates that Cayuga County, NY, was inhabited by members of the historic Cayuga Nation. However, The Tribes have requested that, due to a shared cultural identity among all Iroquois Nations, the remains be affiliated and repatriated collectively to The Tribes.

Determinations Made by the Peabody Museum

Officials of the Peabody Museum have determined that:

• Pursuant to 25 U.S.C. 3001(9), the human remains described in this notice represent the physical remains of two individuals of Native American ancestry.

• Pursuant to 25 U.S.C. 3001(2), there is a relationship of shared group identity that can be reasonably traced between the Native American human remains and The Tribes.

Additional Requestors and Disposition

Representatives of any Indian tribe that believes itself to be culturally affiliated with the human remains should contact Patricia Capone, Repatriation Coordinator, Peabody Museum of Archaeology and Ethnology, Harvard University, 11 Divinity Ave., Cambridge, MA 02138, telephone (617) 496-3702, before November 10, 2011. Repatriation of the human remains to The Tribes may proceed after that date if no additional claimants come forward.

The Peabody Museum is responsible for notifying The Tribes that this notice has been published.

Dated: October 3, 2011.
Sherry Hutt,
Manager, National NAGPRA Program.

[FR Doc. 2011-26158 Filed 10-7-11; 8:45 am]

BILLING CODE 4312-50-P